DEPARTMENT OF HOMELAND SECURITY

Federal Emergency Management Agency

44 CFR Part 67

[Docket ID FEMA-2010-0003; Internal Agency Docket No. FEMA-B-1158]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 16, 2011.

ADDRESSES: The corresponding preliminary Flood Insurance Rate Map (FIRM) for the proposed BFEs for each community is available for inspection at the community's map repository. The respective addresses are listed in the table below.

You may submit comments, identified by Docket No. FEMA-B-1158, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-3461, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Richmond County, North Carolina
North Carolina | Unincorporated Areas | Crooked Creek | At the Scotland County boundary | +243 | +242
|  |  | Approximately 0.8 mile upstream of County Line Road (SR 1803) | +262 | +261
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Richmond County
Maps are available for inspection at the Richmond County Planning Department, 221 South Hancock Street, Rockingham, NC 28379.
City of Newport News, Virginia
Virginia | City of Newport News | Newmarket Creek | Approximately 0.45 mile downstream of Hampton Roads Center Parkway | None | +18
|  |  | Approximately 0.94 mile upstream of Hampton Roads Center Parkway | None | +21
Virginia | City of Newport News | Newmarket Creek | Approximately 1,287 feet downstream of Harpersville Road | None | +24
|  |  | Approximately 0.56 mile upstream of Harpersville Road | None | +26
Virginia | City of Newport News | Newmarket Creek Tributary | Approximately 765 feet downstream of Agusta Drive | None | +22
|  |  | Approximately 167 feet upstream of Agusta Drive | None | +22
Virginia | City of Newport News | Stoney Run | Approximately 0.8 mile downstream of Old Courthouse Way | +7 | +8
|  |  | Approximately 0.56 mile upstream of Woodside Lane | None | +47
Virginia | City of Newport News | Stoney Run—Colony Pines Branch | Approximately 776 feet downstream of Richneck Road | None | +27
|  |  | Approximately 1,450 feet upstream of Windsor Castle Drive | None | +35
Virginia | City of Newport News | Stoney Run—Denbigh Branch | Just downstream of Richneck Road | None | +27
|  |  | Just downstream of McManus Boulevard | None | +35
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Newport News
Maps are available for inspection at the Department of Engineering, 2400 Washington Avenue, Newport News, VA 23607.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Mohave County, Arizona, and Incorporated Areas
Bronco Creek | Approximately 1,295 feet downstream of U.S. Route 93 | None | +1903 | Unincorporated Areas of Mohave County.
| Approximately 0.7 mile upstream of U.S. Route 93 | None | +2063
Colorado River | Approximately 1.2 miles upstream of I-40 | None | +464 | Unincorporated Areas of Mohave County.
| Approximately 3.1 miles upstream of I-40 | None | +466
Tributary A | At the confluence with Unnamed Tributary to Bronco Creek | None | +2046 | Unincorporated Areas of Mohave County.
| Approximately 1,845 feet upstream of the confluence with Unnamed Tributary to Bronco Creek | None | +2095
Tributary B | At the confluence with Unnamed Tributary to Bronco Creek | None | +2055 | Unincorporated Areas of Mohave County.
| Approximately 1,715 feet upstream of the confluence with Unnamed Tributary to Bronco Creek | None | +2112
Tributary C | At the confluence with Unnamed Tributary to Bronco Creek | None | +2058 | Unincorporated Areas of Mohave County.
| Approximately 0.4 mile upstream of the confluence with Unnamed Tributary to Bronco Creek | None | +2121
Unnamed Tributary to Bronco Creek | At the confluence with Bronco Creek | None | +1987 | Unincorporated Areas of Mohave County.
| Approximately 1,440 feet upstream of Chicken Springs Road | None | +2151
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Mohave County
Maps are available for inspection at 700 West Beale Street, Kingman, AZ 86401.
Maui County, Hawaii
Iao East Overflow | Approximately 54 feet downstream of Kahului Beach Road | None | ‸15 | Maui County.
| At the confluence with Iao Stream | None | ‸162
Iao Stream | Approximately 1,036 feet downstream of Waiehu Beach Road | ‸15 | ‸17 | Maui County.
| Approximately 0.7 mile upstream of North Market Street | ‸357 | ‸347
Pacific Ocean (entire shoreline of the Island of Lanai) | Approximately 1.5 miles northwest of the intersection of Kaumalapau Highway and Lanai Rock Quarry Road | None | ‸3 | Maui County.
| Approximately 1.1 miles southwest of the intersection of Hulopoe Drive and Mauna Lei Drive | None | ‸55
Pacific Ocean—Island of Maui | Southeast corner of the Island of Maui, approximately 670 feet southwest of the intersection of Honoapiilani Highway and Keawe Street | None | ‸4 | Maui County.
| Northwest corner of the Island of Maui, approximately 1.7 miles southwest of the intersection of Piilani Highway and Kaupo Gap Road | None | ‸79
Pacific Ocean—Island of Molokai | Northeast corner of the Island of Molokai, approximately 1,700 feet southwest of the intersection of Maunaloa Highway and Hoawa Road | None | ‸3 | Maui County.
| Northwest corner of the Island of Molokai, approximately 2.0 miles northwest of the intersection of Kaluakoi Road and Kakaako Road | None | ‸28
Shallow Flooding (Island of Maui) | Approximately 0.9 mile northwest of Apole Point | ‸10 | #2 | Maui County.
Shallow Flooding (Island of Maui) | Approximately 0.7 mile northwest of Apole Point | None | #2 | Maui County.
* National Geodetic Vertical Datum.
+ North American Vertical Datum.
# Depth in feet above ground.
‸ Elevation in feet (LTD).
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Maui County
Maps are available for inspection at the Maui County Planning Department, 250 South High Street, 2nd Floor, Wailuku, HI 96793.
Greene County, Mississippi, and Incorporated Areas
Leaf River | Approximately 1.1 miles downstream of U.S. Route 98 | None | +74 | Unincorporated Areas of Greene County.
| Approximately 4.2 miles upstream of U.S. Route 98 | None | +85
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Greene County
Maps are available for inspection at the Greene County Courthouse, 400 Main Street, Leakesville, MS 39451.
Panola County, Mississippi, and Incorporated Areas
Enid Lake | Entire shoreline within community | None | +274 | Unincorporated Areas of Panola County.
Fowler Creek | Approximately 790 feet downstream of the railroad | +189 | +188 | Town of Crenshaw, Unincorporated Areas of Panola County.
| Approximately 180 feet upstream of Old Crenshaw Road | +197 | +200
Peters Creek | Approximately 380 feet upstream of the railroad | None | +228 | Town of Courtland, Village of Pope.
| Approximately 1,730 feet upstream of U.S. Route 51 | None | +231
Sardis Lake | Entire shoreline within community | None | +286 | Unincorporated Areas of Panola County.
Shallow Flooding | An area bounded by State Highway 6 to the north, Farrish Gravel Road to the west, and State Highway 35 to the south and east | None | #1 | City of Batesville.
Whitten Creek | Approximately 1,085 feet downstream of Tiger Drive | None | +236 | City of Batesville.
| Approximately 1,120 feet upstream of Shamrock Drive | None | +282
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Batesville
Maps are available for inspection at City Hall, 103 College Street, Batesville, MS 38606.
Town of Courtland
Maps are available for inspection at the Panola County Courthouse, 151 Public Square, Batesville, MS 38606.
Town of Crenshaw
Maps are available for inspection at Crenshaw City Hall, 600 Broad Street, Crenshaw, MS 38621.
Unincorporated Areas of Panola County
Maps are available for inspection at the Panola County Courthouse, 151 Public Square, Batesville, MS 38606.
Village of Pope
Maps are available for inspection at the Panola County Courthouse, 151 Public Square, Batesville, MS 38606.
Quitman County, Mississippi, and Incorporated Areas
Opossum Bayou Tributary | Approximately 1,875 feet downstream of State Highway 3 | None | +153 | Town of Lambert, Unincorporated Areas of Quitman County.
| Approximately 350 feet upstream of Johnson Avenue | None | +156
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Lambert
Maps are available for inspection at the Mayor's Office, 831 Scott Avenue, Lambert, MS 38643.
Unincorporated Areas of Quitman County
Maps are available for inspection at the Quitman County Courthouse, 230 Chestnut Street, Marks, MS 38646.
Saline County, Missouri, and Incorporated Areas
Bell Branch (backwater effects from Missouri River) | From the confluence with the Missouri River to approximately 0.76 mile upstream of the confluence with the Missouri River | +658 | +657 | City of Miami, Unincorporated Areas of Saline County.
Missouri River | Approximately 1,400 feet upstream of the Cooper County boundary | None | +611 | City of Miami, Town of Arrow Rock, Town of Grand Pass, Unincorporated Areas of Saline County.
| At the Lafayette County boundary | None | +672
North Fork Finney Creek | Approximately 850 feet downstream of Fairground Road | None | +703 | Unincorporated Areas of Saline County.
| Approximately 900 feet downstream of Arrow Street | None | +721
North Fork Finney Creek Tributary | At the confluence with North Fork Finney Creek | None | +708 | City of Marshall, Unincorporated Areas of Saline County.
| Approximately 60 feet downstream of Miami Avenue | None | +735
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Marshall
Maps are available for inspection at the City Office, 214 North Lafayette Avenue, Marshall, MO 65340.
City of Miami
Maps are available for inspection at the Saline County Courthouse, 19 East Arrow Street, Room 101, Marshall, MO 65340.
Town of Arrow Rock
Maps are available for inspection at the Saline County Courthouse, 19 East Arrow Street, Room 101, Marshall, MO 65340.
Town of Grand Pass
Maps are available for inspection at the Saline County Courthouse, 19 East Arrow Street, Room 101, Marshall, MO 65340.
Unincorporated Areas of Saline County
Maps are available for inspection at the Saline County Courthouse, 19 East Arrow Street, Room 101, Marshall, MO 65340.
Scotland County, North Carolina, and Incorporated Areas
Cabin Branch | Approximately 90 feet upstream of the confluence with Big Branch | None | +169 | City of Laurinburg, Unincorporated Areas of Scotland County.
| Approximately 1.4 miles upstream of Barnes Bridge Road (SR 1614) | None | +209
Crooked Creek | At the State of South Carolina boundary | +225 | +224 | Unincorporated Areas of Scotland County.
| At the Richmond County boundary | +243 | +241
Little Creek | Just upstream of Highland Road | +194 | +189 | City of Laurinburg, Unincorporated Areas of Scotland County.
| Approximately 600 feet upstream of Wagram Road | +219 | +218
Lumber River | Approximately 1.2 miles upstream of the Robeson County boundary | +190 | +191 | Town of Wagram, Unincorporated Areas of Scotland County.
| Approximately 0.5 mile upstream of the confluence with Quewhiffle Creek | +256 | +257
Unnamed Tributary to Gum Swamp Creek | Approximately 1,050 feet upstream of the confluence with Gum Swamp Creek | None | +167 | City of Laurinburg, Unincorporated Areas of Scotland County.
| Approximately 175 feet upstream of Blue Woods Road (SR 1116) | None | +217
Water Creek | Approximately 1.4 miles downstream of Barnes Bridge Road (SR 1614) | None | +179 | City of Laurinburg, Unincorporated Areas of Scotland County.
| Approximately 1,950 feet upstream of Hasty Road (SR 1615) | None | +207
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Laurinburg
Maps are available for inspection at City Hall, 305 West Church Street, Laurinburg, NC 28353.
Town of Wagram
Maps are available for inspection at the Town Office, 24341 Riverton Road, Wagram, NC 28396.
Unincorporated Areas of Scotland County
Maps are available for inspection at the Scotland County Government Administration Building, 507 West Covington Street, Laurinburg, NC 28353.
Greer County, Oklahoma, and Incorporated Areas
Lake Altus | Entire shoreline within community | None | +1555 | Town of Granite, Unincorporated Areas of Greer County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Granite
Maps are available for inspection at the Town Hall, 420 North Main Street, Granite, OK 73547.
Unincorporated Areas of Greer County
Maps are available for inspection at the Greer County Courthouse, 106 East Jefferson Street, Mangum, OK 73554.
Kiowa County, Oklahoma, and Incorporated Areas
Lake Altus | Entire shoreline within community | None | +1555 | Unincorporated Areas of Kiowa County.
Tributary 1 | Approximately 1,200 feet downstream of A Street | None | +1347 | Unincorporated Areas of Kiowa County.
| Approximately 70 feet downstream of the railroad | None | +1356
Tributary 2 | Approximately 950 feet downstream of B Street | None | +1353 | Unincorporated Areas of Kiowa County.
| Approximately 600 feet downstream of the railroad | None | +1360
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Kiowa County
Maps are available for inspection at the Kiowa County Courthouse, 316 South Main Street, Hobart, OK 73651.
Washita County, Oklahoma, and Incorporated Areas
Cobb Creek | Approximately 0.9 mile downstream of Seger Street | None | +1449 | Cheyenne and Arapaho Tribes of Oklahoma, Unincorporated Areas of Washita County.
| Approximately 250 feet upstream of North 2420 Road | None | +1470
North Cavalry Creek | Approximately 100 feet downstream of East 1210 Road | None | +1470 | Unincorporated Areas of Washita County.
| Approximately 675 feet upstream of North 2230 Road | None | +1574
Tributary No. 1 of North Cavalry Creek | At the confluence with North Cavalry Creek | None | +1487 | Unincorporated Areas of Washita County.
| Approximately 550 feet downstream of Cavalry Creek Dam 24 | None | +1566
Tributary No. 1 of Tributary No. 1 of North Cavalry Creek | Approximately 1,000 feet upstream of the confluence with Tributary No.1 of North Cavalry Creek | None | +1535 | Unincorporated Areas of Washita County.
| Approximately 850 feet upstream of East 14th Street | None | +1562
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Cheyenne and Arapaho Tribes of Oklahoma
Maps are available for inspection at the Cheyenne and Arapaho Tribes of Oklahoma Executive Office, 100 Red Moon Circle, Concho, OK 73022.
Unincorporated Areas of Washita County
Maps are available for inspection at the Washita County Courthouse, 111 East Main Street, New Cordell, OK 73632.
Bedford County, Pennsylvania (All Jurisdictions)
Georges Creek | Approximately 1,932 feet downstream of Simple Road | None | +1278 | Township of West St. Clair.
| Approximately 1,562 feet downstream of Simple Road | None | +1284
Little Wills Creek | Approximately 1.0 mile upstream of the confluence with Wolf Camp Run | None | +1200 | Township of Harrison.
| Approximately 1.32 miles upstream of the confluence with Wolf Camp Run | None | +1215
Little Wills Creek | At the confluence with Wills Creek | +934 | +932 | Township of Londonderry.
| Approximately 280 feet upstream of the confluence with Wills Creek | +937 | +935
Raystown Branch Juniata River | Approximately 380 feet downstream of Ritchie Bridge Road | None | +927 | Township of Hopewell.
| Approximately 100 feet downstream of Ritchie Bridge Road | None | +928
Raystown Branch Juniata River | Approximately 0.46 mile downstream of Six Mile Run Road | None | +858 | Township of Liberty.
| Approximately 180 feet downstream of Six Mile Run Road | None | +860
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Harrison
Maps are available for inspection at the Harrison Township Municipal Building, 4747 Milligans Cove Road, Manns Choice, PA 15550.
Township of Hopewell
Maps are available for inspection at the Township Building, 1402 Norris Street, Hopewell, PA 16650.
Township of Liberty
Maps are available for inspection at the Liberty Township Building, 504 17th Street, Saxton, PA 16678.
Township of Londonderry
Maps are available for inspection at the Londonderry Township Building, 4303 Hyndman Road, Hyndman, PA 15545.
Township of West St. Clair
Maps are available for inspection at the West St. Clair Township Office, Chestnut Ridge Ambulance Building, 4037 Quaker Valley Road, Alum Bank, PA 15521.
Sanborn County, South Dakota, and Incorporated Areas
Branch 4 of Ditch 21 | At the confluence with County Ditch No. 6 and County Ditch No. 8 | None | +1298 | Unincorporated Areas of Sanborn County.
| Just downstream of 227th Street | None | +1305
County Ditch No. 6 | At the confluence with County Ditch No. 8 and Branch 4 of Ditch 21 | None | +1298 | Unincorporated Areas of Sanborn County.
| Approximately 630 feet upstream of 396th Avenue | None | +1307
County Ditch No. 7 | Approximately 350 feet downstream of 397th Avenue | None | +1300 | City of Woonsocket, Unincorporated Areas of Sanborn County.
| Approximately 0.6 mile upstream of 396th Avenue | None | +1302
County Ditch No. 8 | Approximately 0.6 mile downstream of 398th Avenue | None | +1292 | City of Woonsocket, Unincorporated Areas of Sanborn County.
| At the confluence with County Ditch No. 6 and Branch 4 of Ditch 21 | None | +1298
Dry Run 8 | At the confluence with County Ditch No. 8 | None | +1295 | Unincorporated Areas of Sanborn County.
| Approximately 1.3 miles upstream of the confluence with County Ditch No. 8 | None | +1297
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Woonsocket
Maps are available for inspection at City Hall, 103 South 3rd Avenue, Woonsocket, SD 57385.
Unincorporated Areas of Sanborn County
Maps are available for inspection at the Sanborn County Government Offices, 604 West 6th Street, Woonsocket, SD 57385.
Carbon County, Utah, and Incorporated Areas
Grassy Trail Creek | Approximately 320 feet downstream of the confluence with Northern Slope Tributary | None | +6167 | City of East Carbon.
| Approximately 2.12 miles upstream of the confluence with Northern Slope Tributary | None | +6408
Northern Slope Tributary | At the confluence with Grassy Trail Creek | None | +6170 | City of East Carbon.
| Approximately 0.53 mile upstream of the confluence with Grassy Trail Creek | None | +6234
Price River | Approximately 0.40 mile downstream of 760 North Street | +5545 | +5544 | City of Helper, Unincorporated Areas of Carbon County.
| Approximately 760 feet downstream of Union Pacific Railroad | +5956 | +5955
Spring Canyon Wash | Just upstream of the confluence with the Price River | +5857 | +5858 | City of Helper.
| Approximately 500 feet upstream of Canyon Street | +5917 | +5918
Spring Glen Wash | At the confluence with the Price River | +5738 | +5736 | Unincorporated Areas of Carbon County.
| Approximately 0.52 mile upstream of 1900 West Street | None | +5848
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of East Carbon
Maps are available for inspection at City Hall, 105 West Geneva Drive, East Carbon City, UT 84520.
City of Helper
Maps are available for inspection at City Hall, 73 South Main Street, Helper, UT 84526.
Unincorporated Areas of Carbon County
Maps are available for inspection at the Carbon County Planning and Zoning Department, 120 East Main Street, Price, UT 84501.
Ritchie County, West Virginia, and Incorporated Areas
North Fork Hughes River | Approximately 0.55 mile downstream of Main Street | +672 | +670 | Town of Cairo.
| Approximately 0.41 mile upstream of Main Street | +676 | +673
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Cairo
Maps are available for inspection at the Cairo Town Hall, 115 East Main Street, Harrisville, WV 26362.
Roane County, West Virginia, and Incorporated Areas
Goff Run | Approximately 0.41 mile upstream of Williams Drive | None | +734 | Unincorporated Areas of Roane County.
| Approximately 0.53 mile upstream of Williams Drive | None | +739
Reedy Creek | Approximately 940 feet downstream of Mill Street | None | +678 | Unincorporated Areas of Roane County.
| Approximately 214 feet upstream of Mill Street | None | +679
Reedy Creek | Approximately 1,890 feet upstream of Center Street | None | +678 | Unincorporated Areas of Roane County.
| Approximately 0.40 mile upstream of Center Street | None | +678
Reedy Creek | Approximately 1,230 feet upstream of Mill Street | None | +679 | Unincorporated Areas of Roane County.
| Approximately 1,810 feet upstream of Mill Street | None | +679
Spring Creek | Approximately 1,784 feet downstream of Roane Avenue | None | +724 | Unincorporated Areas of Roane County.
| Approximately 1,519 feet downstream of Roane Avenue | None | +724
Spring Creek | Approximately 355 feet downstream of the Spring Creek Dam | None | +727 | Unincorporated Areas of Roane County.
| Approximately 352 feet downstream of Clary Road | None | +728
Tanner Run | Approximately 510 feet upstream of Main Street | None | +726 | Unincorporated Areas of Roane County.
| Approximately 0.51 mile upstream of Main Street | None | +733
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Roane County
Maps are available for inspection at the Roane County Courthouse, 200 Main Street, Spencer, WV 25276.
Douglas County, Wisconsin, and Incorporated Areas
Bond Lake | Entire shoreline within community | None | +1035 | Unincorporated Areas of Douglas County.
Lake Minnesuing | Entire shoreline within community | None | +1117 | Unincorporated Areas of Douglas County.
Lake Nebagamon | Entire shoreline within community | None | +1111 | Village of Lake Nebagamon.
Lake Superior | Entire shoreline within community | None | +605 | City of Superior, Unincorporated Areas of Douglas County, Village of Oliver, Village of Superior.
Leader Lake | Entire shoreline within community | None | +1036 | Unincorporated Areas of Douglas County.
Lower Eau Claire Lake | Entire shoreline within community | None | +1124 | Unincorporated Areas of Douglas County.
Lyman Lake | Entire shoreline within community | None | +1190 | Unincorporated Areas of Douglas County.
Nemadji River | Just downstream of the Hammond Avenue abandoned bridge | None | +623 | Village of Superior.
| Approximately 1 mile upstream of the Hammond Avenue abandoned bridge | None | +624
St. Croix Flowage | Entire shoreline within community | None | +1018 | Unincorporated Areas of Douglas County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Superior
Maps are available for inspection at 1316 North 4th Street, Superior, WI 54880.
Unincorporated Areas of Douglas County
Maps are available for inspection at 1313 Belknap Street, Superior, WI 54880.
Village of Lake Nebagamon
Maps are available for inspection at 11596 East Waterfront Street, Lake Nebagamon, WI 54849.
Village of Oliver
Maps are available for inspection at 2931 South Winona Avenue, Superior, WI 54880.
Village of Superior
Maps are available for inspection at 6702 Ogden Avenue, Superior, WI 54880

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31545 Filed 12-15-10; 8:45 am]

BILLING CODE 9110-12-P